DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 2 entities whose property and interests in property are blocked pursuant to the Foreign Narcotics Kingpin Designation Act (“Kingpin Act”) (21 U.S.C. 1901-1908, 8 U.S.C. 1182).

DATES: As of October 19, 2010 the Director of OFAC is publicly identifying in this notice 2 entities that are blocked pursuant to section 805(b) of the Kingpin Act because they are owned or controlled by a specially designated narcotics trafficker.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury may in consultation with the Attorney General, the Director of the Central Intelligence Agency, the Director of the Federal Bureau of Investigation, the Administrator of the Drug Enforcement Administration, the Secretary of Defense, the Secretary of State, and the Secretary of Homeland Security, designate and block the property and interests in property, subject to U.S. jurisdiction, of persons he determines to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 19, 2010, OFAC identified 2 entities that are blocked pursuant to section 805(b) of the Foreign Narcotics Kingpin Designation Act.

The list of these blocked entities is as follows:

1. RUNNING BROOK, LLC (USA), Miami, FL, United States; Business Registration Document # L00000010931 (United States); US FEIN 030510902 (United States); (ENTITY) [SDNTK].

2. LA HACIENDA (USA), LLC, Miami, FL, United States; Business Registration Document # L99000003231 (United States); US FEIN 650964520 (United States); (ENTITY) [SDNTK].

Dated: October 19, 2010.
Adam J. Szubin,
Director, Office of Foreign Assets Control.

[FR Doc. 2010-26821 Filed 10-22-10; 8:45 am]

BILLING CODE 4811-45-P